DEPARTMENT OF HEALTH AND HUMAN SERVICES

[CMS-9966-N]

Risk Adjustment Meeting—May 7, 2012 and May 8, 2012

AGENCY: Department of Health and Human Services.

ACTION: Notice of meeting.

SUMMARY: This notice announces a meeting on the risk adjustment program, which is open to the public. The purpose of this meeting is to provide information to States, issuers, and interested parties about the risk adjustment program. This meeting will include the following topics: The risk adjustment model, calculation of plan average actuarial risk, calculation of payments and charges, data collection approach, and the schedule for running risk adjustment. This meeting will provide an opportunity to hear from a variety of interested parties as the Federal risk adjustment methodology is being developed and we are working through operational issues.

DATES: Meeting Dates: May 7th from 9 a.m. to 5 p.m. and May 8th from 8:30 a.m. to 12:30 p.m. Eastern Standard Time (EST).

Deadline for Meeting Registration and Comments: April 30th, 2012, 5 p.m., EST.

Deadline for Requesting Special Accommodations: April 30th, 2012, 5 p.m., EST.

ADDRESSES: Meeting Location: Crystal Gateway Marriott, 1700 Jefferson Davis Highway, Arlington, VA 22202.

Meeting Registration: To register, visit the Resources page on the CCIIO Web site at http://cciio.cms.gov/resources/other/index.html#fm.Written Comments: Jeffrey Davis, Center for Consumer Information and Insurance Oversight, CMS, 200 Independence Avenue SW., Washington, DC 20201, Phone: 301-492-4270, Fax: 301-492-4462, or contact by email at RAspringmeeting@cms.hhs.gov. Written comments must be submitted in Microsoft Word format.

FOR FURTHER INFORMATION CONTACT: Please send inquiries about the logistics of the meeting to logistics@isomglobal.com and about the content of the meeting to RAspringmeeting@cms.hhs.gov. Press inquiries are handled through CCIIO's Press Office at (202) 690-6343.

SUPPLEMENTARY INFORMATION:

I. Background

This notice announces a meeting on the risk adjustment program required under section 1343 of the Affordable Care Act. The purpose of this meeting is to provide information to States, issuers, and interested parties about the risk adjustment program. This meeting will provide an opportunity to hear from a variety of interested parties as the Federal risk adjustment methodology is being developed and we are working through operational issues.

II. Meeting Agenda

The Spring Risk Adjustment Meeting will provide information to States, issuers, and interested parties about the risk adjustment program. The Risk Adjustment Spring Meeting will focus on: the risk adjustment model, calculation of plan average actuarial risk, calculation of payments and charges, data collection approach, and the schedule for running risk adjustment.

The Risk Adjustment Meeting will convene stakeholders including State governments, industry representatives, and other interested parties. The Risk Adjustment Meeting will provide the public with further detail about the risk adjustment methodology that is currently being developed by HHS and the operational framework for risk adjustment when HHS is operating the program on behalf of a State. In addition, the Risk Adjustment Meeting will provide stakeholders with an opportunity to communicate with HHS about the risk adjustment program.

The meeting is open to the public, but attendance is limited to the space available. There are capabilities for remote access. Persons wishing to attend this meeting must register by the date listed in the DATES section above, and by visiting the CCIIO Web page listed in the ADDRESSES section above. Registration will be on a first-come, first-serve basis, limited to three attendees per organization.

Catalog of Federal Domestic Assistance Program No. 93.778, Medical Assistance Program; No. 93.773 Medicare—Hospital Insurance Program; and No. 93.774, Medicare—Supplementary Medical Insurance Program.

Dated: April 5, 2012.
Marilyn Tavenner,
Acting Administrator, Centers for Medicare & Medicaid Services.

[FR Doc. 2012-8771 Filed 4-10-12; 8:45 am]

BILLING CODE 4120-01-P